DEPARTMENT OF ENERGY

Federal Energy Regulatory Commission

[Project No. 2144-035-Washington]

City of Seattle, Washington; Notice of Scoping Meetings and Site Visits

June 19, 2006.

a. Type of Filings: Notice of Intent to File License Applications for New License and Pre-Application Document.

b. Project Nos.: 2144-035.

c. Dated Filed: May 5, 2006.

d. Submitted By: Seattle City Light (SCL).

e. Name of Project: Boundary Hydroelectric Project No. 2144.

f. Locations: The Boundary Hydroelectric Project is located on Pend Oreille River about 10 miles north of Metaline Falls in Pend Oreille County, Washington. The Tacoma Project occupies lands of the Colville National Forest and lands managed by the U.S. Bureau of Land Management.

g. Filed Pursuant to: 18 CFR part 5 of the Commission's Regulations.

h. Applicant Contact: Barbara Greene, SCL Boundary Relicensing Program Lead, Seattle City Light, P.O. Box 34023, Seattle, Washington 98124-4023; (206) 615-1091.

i. FERC Contact: David Turner (202) 502-6091 or via e-mail at david.turner@ferc.gov.

j. SCL filed a Pre-Application Document (PAD) for the Boundary Project, including proposed process plans and schedules, with the Commission pursuant to 18 CFR 5.6 of the Commission's regulations.

k. Copies of the PAD and Scoping Document 1 (SD1) are available for review at the Commission in the Public Reference Room or may be viewed on the Commission's Web site (http://www.ferc.gov), using the “eLibrary” link. Enter the docket number, excluding the last three digits, in the docket number field to access the document. For assistance, contact FERC Online Support at FERCONlineSupport@ferc.gov or toll free at 1-866-208-3676, or for TTY, (202) 502-8659. A copy is also available for inspection and reproduction at the address in paragraph h.

Register online at http://ferc.gov/esubscribenow.htm to be notified via e-mail of new filings and issuances related to these or other pending projects. For assistance, contact FERC Online Support.

l. With this notice, we are notifying interested parties of the scoping meetings and site visit and soliciting comments on SD1. A future notice will be issued soliciting comments on the PAD and study requests (see paragraph n below). All comments on SD1 should be sent to the address above in paragraph h. In addition, all comments and all communications to Commission staff related to the merits of the potential application (original and eight copies) must be filed with the Commission at the following address: Magalie R. Salas, Secretary, Federal Energy Regulatory Commission, 888 First Street, NE., Washington, DC 20426. All filings with the Commission relevant to the Boundary Hydroelectric Project must include on the first page, the project name, (Boundary Hydroelectric Project) and number (P-2144-035), and bear the heading, as appropriate, “Comments on Scoping Document 1.” Any individual or entity interested in commenting on SD1 must do so by September 1, 2006.

Comments on SD1 and other permissible forms of communications with the Commission may be filed electronically via the Internet in lieu of paper. The Commission strongly encourages electronic filings. See 18 CFR 385.2001(a)(1)(iii) and the instructions on the Commission's Web site (http://www.ferc.gov) under the “e-filing” link.

m. Although our current intent is to prepare a draft and final environmental assessment (EA), there is a possibility that an Environmental Impact Statement (EIS) will be required. Nevertheless, this meeting will satisfy the NEPA scoping requirements, irrespective of whether an EA or EIS is issued by the Commission.

Scoping Meetings

We will hold two scoping meetings for the project at the times and places noted below. The daytime meetings will focus on resource agency, Indian tribes, and non-governmental organization concerns, while the evening meetings are primarily for receiving input from the public. We invite all interested individuals, organizations, Indian tribes, and agencies to attend one or all of the meetings, and to assist staff in identifying particular study needs, as well as the scope of environmental issues to be addressed in the environmental document. The times and locations of these meetings are as follows:

Daytime Scoping Meeting

Date and Time: July 18, 2006, 7 p.m. to 9 p.m (PST)

Location: Quality Inn Oakwood (Room is Cascade C), 7919 North Division Street, Spokane, Washington, 99208.

Nighttime Scoping Meeting

Date and Time: July 19, 2006, from 7 a.m. to 9 p.m. (MST).

Location: Cutter Theater, 302 Park Street, Metaline Falls, Washington, 99153.

For Directions: Contact Barbara Greene at (206) 615-1091.

SD1, which outlines the subject areas to be addressed in the environmental document, has been mailed to the individuals and entities on the Commission's mailing list. Copies of SD1 will be available at the scoping meetings, or may be viewed on the Web at http://www.ferc.gov, using the “eLibrary” link. Follow the directions for accessing information in paragraph k. Depending on the extent of comments received, a Scoping Document 2 (SD2) may or may not be issued.

Site Visits

SCL will conduct a site visit of the project on Wednesday, July 19, 2006 at 1:00. All participants should meet at SCL's Boundary Dam forebay recreation site parking lot at 12:30. All participants are responsible for their own transportation. Those interested in participating in site visit must notify Mary Pat DiLeva of their intent at marypat.dileva@seattle.gov by June 30, 2006. Anyone with questions about the site visits (or for directions) should contact Mary Pat DiLeva.

Scoping Meeting Objectives

At the scoping meetings, staff will: (1) Present the proposed list of issues to be addressed in the EA; (2) review and discuss existing conditions and resource agency management objectives; (3) review and discuss existing information and identify preliminary information and study needs; (4) review and discuss the process plan and schedule for pre-filing activity that incorporates the time frames provided for in Part 5 of the Commission's regulations and, to the extent possible, maximizes coordination of Federal, state, and tribal permitting and certification processes; and (5) discuss requests by any Federal or state agency or Indian tribe acting as a cooperating agency for development of an environmental document.

Meeting participants should come prepared to discuss their issues and/or concerns. Please review the Pre-Application Document in preparation for the scoping meetings. Directions on how to obtain a copy of the PAD and SD1 are included in item k of this notice.

Scoping Meeting Procedures

The scoping meetings will be recorded by a stenographer and will become part of the formal Commission records for the projects.

n. A separate notice solicitating comments on the PAD and study requests will be issued by July 5, 2006. That notice will set the date for filing comments on the PAD and study requests (September 1, 2006) in accordance with Commission regulations and the proposed process plan.

Magalie R. Salas,
Secretary.

[FR Doc. E6-10125 Filed 6-27-06; 8:45 am]

BILLING CODE 6717-01-P